DEPARTMENT OF DEFENSE

Department of the Army

[Docket ID: USA-2023-HQ-0013]

Proposed Collection; Comment Request

AGENCY: U.S. Army Corps of Engineers (USACE), Department of the Army, Department of Defense (DoD).

ACTION: 60-Day information collection notice.

SUMMARY: In compliance with the Paperwork Reduction Act of 1995, the U.S. Army Corps of Engineers announces a proposed public information collection and seeks public comment on the provisions thereof. Comments are invited on: whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by November 21, 2023.

ADDRESSES: You may submit comments, identified by docket number and title, by any of the following methods:

Federal eRulemaking Portal: http://www.regulations.gov. Follow the instructions for submitting comments.

Mail: Department of Defense, Office of the Assistant to the Secretary of Defense for Privacy, Civil Liberties, and Transparency, 4800 Mark Center Drive, Mailbox #24, Suite 08D09, Alexandria, VA 22350-1700.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to U.S. Army Corps of Engineers, Office of Homeland Security, 441 G Street NW, ATTN: Stephanie Bray, Washington, DC 20314-1000, or call 202-761-4827.

SUPPLEMENTARY INFORMATION:

Title; Associated Form; and OMB Number: Silver Jackets Program Nomination and Awards; ENG Form 6128; OMB Control Number 0710-0023.

Needs and Uses: The information collection request is necessary to obtain input and feedback from our state government partners regarding the performance and achievement of state-led Silver Jackets teams. Through the National Flood Risk Management Program, USACE supports the Silver Jackets Program, which has teams in all states and several territories, bringing together multiple state, federal, local, and tribal agencies to learn from one another and work together to reduce risk from floods and other natural hazards. The ENG Form 6128, “Silver Jackets State Team of the Year,” provides the vehicle for Silver Jackets teams to nominate their fellow teams for consideration for the Silver Jackets Team of the Year Award. The responses to this information collection are used to recognize excellent work by teams, thank the team partners for their efforts, and provide incentives for future team participation.

Affected Public: Individuals or households; State, Local or Tribal Government.

Annual Burden Hours: 18.

Number of Respondents: 54.

Responses per Respondent: 1.

Annual Responses: 54.

Average Burden per Response: 20 minutes.

Frequency: Annually.

Dated: September 18, 2023.
Aaron T. Siegel,
Alternate OSD Federal Register Liaison Officer, Department of Defense.

[FR Doc. 2023-20537 Filed 9-21-23; 8:45 am]

BILLING CODE 5001-06-P